NUCLEAR REGULATORY COMMISSION

[Docket Nos. 50-237 and 50-249; NRC-2024-0080]

Constellation Energy Generation, LLC; Dresden Nuclear Power Station, Units 2 and 3; Draft Supplemental Environmental Impact Statement

AGENCY: Nuclear Regulatory Commission

ACTION: Notice; request for comment.

SUMMARY: The U.S. Nuclear Regulatory Commission (NRC) is issuing for public comment Draft Supplement 17, Second Renewal, to the Generic Environmental Impact Statement (GEIS) for License Renewal of Nuclear Plants, NUREG-1437, regarding the proposed subsequent license renewal (SLR) of Renewed Facility Operating License Nos. DPR-19 and DPR-25, which authorize Constellation Energy Generation, LLC to operate Dresden Nuclear Power Station, Units 2 and 3 (Dresden). Dresden is located 23 miles (mi) southwest of Joliet, Illinois, and 60 mi southwest of Chicago, Illinois, along the Illinois, Des Plaines, and Kankakee Rivers. Possible alternatives to the proposed action of SLR include no action and reasonable replacement power alternatives.

DATES: Members of the public are invited to submit comments by July 14, 2025. Comments received after that date will be considered if it is practical to do so, but the NRC is able to ensure consideration only for comments received on or before that date.

ADDRESSES: You may submit comments by any of the following methods; however, the NRC encourages electronic comment submission through the Federal rulemaking website:

• Federal rulemaking website: Go to https://www.regulations.gov and search for Docket ID NRC-2024-0080. Address questions about Docket IDs in Regulations.gov to Bridget Curran; telephone: 301-415-1003; email: Bridget.Curran@nrc.gov. For technical questions, contact the individual listed in the FOR FURTHER INFORMATION CONTACT section of this document.

• Email: Comments may be submitted to the NRC electronically using the email address DresdenEnvironmental.Resource@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Angela Sabet, Office of Nuclear Material Safety and Safeguards, U.S. Nuclear Regulatory Commission; telephone: 301-415-1162; email: Angela.Sabet@nrc.gov.

SUPPLEMENTARY INFORMATION:

I. Obtaining Information and Submitting Comments

A. Obtaining Information

Please refer to Docket ID NRC-2024-0080 when contacting the NRC about the availability of information regarding this document. You may obtain publicly available information related to this action using any of the following methods:

• Federal Rulemaking Website: Go to https://www.regulations.gov and search for Docket ID NRC-2024-0080.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Supplement 17, Second Renewal, to the GEIS for License Renewal of Nuclear Plants, NUREG-1437, is available in ADAMS under Accession No. ML25132A151.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the Draft Supplement 17, Second Renewal, to the GEIS for License Renewal of Nuclear Plants, NUREG-1437, regarding the proposed SLR of Renewed Facility Operating License Nos. DPR-19 and DPR-25, for an additional 20 years of operation for Dresden, will be available for public review at the following public library locations: Morris Area Public Library, 604 Liberty St., Morris, IL 60450, and Coal City Public Library District, 85 N Garfield St., Coal City, IL 60416

B. Submitting Comments

The NRC encourages electronic comment submission through the Federal rulemaking website (https://www.regulations.gov). Please include Docket ID NRC-2024-0080 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment Draft Supplement 17, Second Renewal, to the GEIS for License Renewal of Nuclear Plants, NUREG-1437, regarding the proposed SLR of Renewed Facility Operating License Operating License Nos. DPR-19 and DPR-25, for an additional 20 years of operation for Dresden. Draft Supplement 17, Second Renewal, to the GEIS includes a preliminary analysis that evaluates the environmental impacts of the proposed action and alternatives to the proposed action.

Based on the NRC staff's (i) review of the SLR application, which includes the environmental report, supplemental documents, and the licensee's responses to the NRC staff's requests for additional information; (ii) consultation with Federal, State, Tribal, and local governmental agencies and consideration of input from other stakeholders; and (iii) independent environmental review as documented in the draft environmental impact statement, the NRC staff's preliminary recommendation is that the adverse environmental impacts of SLR for Dresden are not so great that preserving the option of subsequent license renewal for energy-planning decisionmakers would be unreasonable.

Dated: May 21, 2025.
For the Nuclear Regulatory Commission.
John Moses,
Deputy Director, Division of Rulemaking, Environmental, and Financial Support, Office of Nuclear Material Safety and Safeguards.

[FR Doc. 2025-09449 Filed 5-29-25; 8:45 am]

BILLING CODE 7590-01-P